NEIGHBORHOOD REINVESTMENT CORPORATION

Sunshine Act Meetings; Regular Board of Directors Meeting

TIME AND DATE: 2 p.m., Thursday, October 15, 2020.

PLACE: Via Conference Call.

STATUS: Open (with the exception of Executive Session).

MATTERS TO BE CONSIDERED: The General Counsel of the Corporation has certified that in his opinion, one or more of the exemptions set forth in 5 U.S.C. 552 (b)(2) and (4) permit closure of the following portion(s) of this meeting:

• Executive Session

Agenda

I. Call to Order

II. Executive Session: Report from CEO

III. Executive Session: Report of CFO

IV. Action Item Approval of Minutes

V. Discussion Item NeighborWorks Compass Update

VI. Discussion Item Strategic Planning Process and Timeline

VII. Discussion Item Review of the Draft FY2021 Scorecard

VIII. Discussion Item Pandemic Update from the NeighborWorks Network and Staff

IX. Management Program Background and Updates

X. Adjournment

CONTACT PERSON FOR MORE INFORMATION: Lakeyia Thompson, Special Assistant, (202) 524-9940; Lthompson@nw.org.

Lakeyia Thompson,
Special Assistant.

[FR Doc. 2020-22175 Filed 10-2-20; 4:15 pm]

BILLING CODE 7570-02-P